DEPARTMENT OF TRANSPORTATION

Federal Aviation Administration

14 CFR Part 39

[Docket No. FAA-2018-0028; Product Identifier 2017-NM-143-AD; Amendment 39-19356; AD 2018-17-02]

RIN 2120-AA64

Airworthiness Directives; Bombardier, Inc., Airplanes

AGENCY: Federal Aviation Administration (FAA), Department of Transportation (DOT).

ACTION: Final rule.

SUMMARY: We are adopting a new airworthiness directive (AD) for certain Bombardier, Inc., Model CL-600-1A11 (600), CL-600-2A12 (601), and CL-600-2B16 (601-3A, 601-3R, and 604 Variants) airplanes. This AD was prompted by a determination that the safe life limits of the horizontal stabilizer trim actuator (HSTA) attachment pins and trunnions were not listed in certain airworthiness limitations (AWLs) and that the HSTA attachment pins and trunnions were not serialized. This AD requires revision of the maintenance or inspection program, as applicable, to include the latest revision of the AWLs, serialization of the HSTA attachment pins and trunnions, and repair or replacement of damaged HSTA attachment pins and trunnions. We are issuing this AD to address the unsafe condition on these products.

DATES: This AD is effective September 19, 2018.

The Director of the Federal Register approved the incorporation by reference of certain publications listed in this AD as of September 19, 2018.

ADDRESSES: For service information identified in this final rule, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this referenced service information at the FAA, Transport Standards Branch, 2200 South 216th St., Des Moines, WA. For information on the availability of this material at the FAA, call 206-231-3195. It is also available on the internet at http://www.regulations.gov by searching for and locating Docket No. FAA-2018-0028.

Examining the AD Docket

You may examine the AD docket on the internet at http://www.regulations.gov by searching for and locating Docket No. FAA-2018-0028; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE, Washington, DC 20590.

FOR FURTHER INFORMATION CONTACT: Aziz Ahmed, Aerospace Engineer, Airframe and Mechanical Systems Section, FAA, New York ACO Branch, 1600 Stewart Avenue, Suite 410, Westbury, NY 11590; telephone 516-228-7239; fax 516-794-5531; email 9-avs-nyaco-cos@faa.gov.

SUPPLEMENTARY INFORMATION:

Discussion

We issued a notice of proposed rulemaking (NPRM) to amend 14 CFR part 39 by adding an AD that would apply to certain Bombardier, Inc., Model CL-600-1A11 (600), CL-600-2A12 (601), and CL-600-2B16 (601-3A, 601-3R, and 604 Variants) airplanes. The NPRM published in the Federal Register on February 8, 2018 (83 FR 5587) (“the NPRM”). The NPRM was prompted by a determination that the safe life limits of the HSTA attachment pins and trunnions were not listed in certain AWLs and that the HSTA attachment pins and trunnions were not serialized. The NPRM proposed to require revision of the maintenance or inspection program, as applicable, to include the latest revision of the AWLs, serialization of the HSTA attachment pins and trunnions, and repair or replacement of damaged HSTA attachment pins and trunnions. We are issuing this AD to address failure of the HSTA attachment pins and trunnions, which could lead to a disconnect of the horizontal stabilizer and subsequent loss of the airplane.

Transport Canada Civil Aviation (TCCA), which is the aviation authority for Canada, has issued Canadian AD CF-2017-24, dated July 12, 2017 (referred to after this as the Mandatory Continuing Airworthiness Information, or “the MCAI”), to correct an unsafe condition for certain Bombardier, Inc., Model CL-600-1A11 (600), CL-600-2A12 (601), and CL-600-2B16 (601-3A, 601-3R, and 604 Variants) airplanes. The MCAI states:

During a review of the Horizontal Stabilizer Trim Actuator (HSTA) system, it was discovered that the safe life limits of the HSTA attachment pins and trunnions were not listed in the Airworthiness Limitation (AWL) Section of the Instructions for Continued Airworthiness. Also, the HSTA attachment pins and trunnions were not serialized making it impossible to keep accurate records of the life of these parts. Failure of these pins and trunnions could lead to a disconnect of the horizontal stabilizer and subsequent loss of the aeroplane.

This [Canadian] AD mandates the incorporation of AWL tasks into the maintenance schedule and serialization of HSTA attachment pins and trunnions. Some aircraft require AWL tasks and serialization of the attachment pins only, while others require AWL tasks and serialization of the trunnions and attachment pins [and repair or replacement if damaged (including linear scratches, pits, spalling, dents, or surface texture variations)].

You may examine the MCAI in the AD docket on the internet at http://www.regulations.gov by searching for and locating Docket No. FAA-2018-0028.

Comments

We gave the public the opportunity to participate in developing this AD. The following presents the comments received on the NPRM and the FAA's response to each comment.

Request To Allow Using Later Revisions of the Service Information

NetJets requested that paragraph (h) of the proposed AD be revised to specify the latest time limits/maintenance checks (TLMC) revisions. NetJets noted that some of the TLMC documents referenced in the proposed AD have been revised. NetJets also requested that we revise the proposed AD so that operators can use later approved revisions of the TLMC documents to show compliance without requesting an alternative method of compliance (AMOC).

We partially agree with the commenter's request. In this circumstance, the specific tasks required by this AD have not changed in the latest available service information from the earlier revisions of the service information specified in the NPRM. We have therefore revised this AD to refer to the latest available service information and revised paragraph (k) of this AD to provide credit for actions done using earlier revisions of certain service information. However, we may not refer to any document that does not yet exist. In general terms, we are required by Office of the Federal Register (OFR) regulations to either publish the service document contents as part of the actual AD language; or submit the service document to the OFR for approval as “referenced” material, in which case we may only refer to such material in the text of an AD. The AD may refer to the service document only if the OFR approved it for “incorporation by reference.” See 1 CFR part 51.

To allow operators to use later revisions of the referenced document (issued after publication of the AD), either we must revise the AD to reference specific later revisions, or operators must request approval to use later revisions as an AMOC with this AD under the provisions of paragraph (m)(1) of this AD. We cannot reference a specific revision not yet in existence so the only option is to request an AMOC.

Request To Use a Service Bulletin Instead of a TLMC

Disney Aviation Group requested that the proposed AD be revised to use actions in a service bulletin instead of the TLMC for any required inspections. The commenter noted that most operators have an electronic subscription that automatically gives them the newest revision of the TLMC documents. The commenter stated that since the TLMCs have been updated since the draft AD was issued, operators will not be able to comply with the AD, and will have to request an AMOC. The commenter noted that service bulletins are not revised as often as TLMC documents, and when they are updated they are not superseded by future revisions. The commenter pointed out that other manufacturers issue service bulletins with similar requirements and the related ADs require those service bulletins.

We disagree with the commenter's request. As noted previously, we have revised this AD to refer to the latest available TLMC documents. We cannot, however, mandate how a given manufacturer makes their service information available. Since Bombardier, Inc. has chosen to provide the TLMCs in a separate document, rather than a service bulletin, that is what operators must use to show compliance with this AD. We have therefore not changed this AD in this regard.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Bombardier has issued the following service information.

The following service information describes procedures for serializing the HSTA attachment pins and trunnions. These documents are distinct since they apply to different airplane models in different configurations.

• Bombardier Service Bulletin 600-0760, Revision 01, dated April 21, 2017.

• Bombardier Service Bulletin 601-0626, Revision 01, dated April 21, 2017.

• Bombardier Service Bulletin 604-27-034, Revision 01, dated April 21, 2017.

• Bombardier Service Bulletin 605-27-005, Revision 01, dated April 21, 2017.

The following service information identifies airworthiness limitation tasks for revising the life limits for HSTA attachment pins and trunnions. These documents are distinct since they apply to different airplane models in different configurations.

• Section 5-10-10, “Time Limits (Structural),” of Section 5-10-00, “Airworthiness Limitations,” of Bombardier Challenger 600 Time Limits/Maintenance Checks, Publication No. PSP 605, Revision 39, dated January 8, 2018.

• Section 5-10-10, “Time Limits (Structural)—Pre SB 601-0280,” of Section 5-10-00, “Airworthiness Limitations,” of Bombardier Challenger 601 Time Limits/Maintenance Checks, Publication No. PSP 601-5, Revision 46, dated January 8, 2018.

• Section 5-10-11, “Time Limits (Structural)—Post SB 601-0280,” of Section 5-10-00, “Airworthiness Limitations,” of Bombardier Challenger 601 Time Limits/Maintenance Checks, Publication No. PSP 601-5, Revision 46, dated January 8, 2018.

• Section 5-10-12, “Time Limits (Structural)—Post SB 601-0360,” of Section 5-10-00, “Airworthiness Limitations,” of Bombardier Challenger 601 Time Limits/Maintenance Checks, Publication No. PSP 601-5, Revision 46, dated January 8, 2018.

• Section 5-10-10, “Time Limits (Structural),” of Section 5-10-00, “Airworthiness Limitations,” of Bombardier Challenger 601 Time Limits/Maintenance Checks, Publication No. PSP 601A-5, Revision 42, dated January 8, 2018.

• Section 5-10-11, “Time Limits (Structural),” of Section 5-10-00, “Airworthiness Limitations,” of Bombardier Challenger 601 Time Limits/Maintenance Checks, Publication No. PSP 601A-5, Revision 42, dated January 8, 2018.

• Section 5-10-12, “Time Limits (Structural),” of Section 5-10-00, “Airworthiness Limitations,” of Bombardier Challenger 601 Time Limits/Maintenance Checks, Publication No. PSP 601A-5, Revision 42, dated January 8, 2018.

The following service information describes life limits for certain HSTA attachment pins and trunnion supports. These documents are distinct since they apply to different airplane models in different configurations.

• Section 5-10-10, “Life Limits (Structures),” of Bombardier Challenger 604 CL-604 Time Limits/Maintenance Checks, Part 2 Airworthiness Limitations, Revision 30, dated December 4, 2017. This service information describes, among other tasks: Task 27-42-01-108, “Discard of the Horizontal-Stabilizer Trim-Actuator (HSTA) Trunnion Support; Part No. 601R92386-1/-3;” and Task 27-42-01-112, “Discard of the Horizontal-Stabilizer Trim-Actuator (HSTA) Upper and Lower Attachment Pins; Upper Pin Part No. 600-92384-5/-7 or 601R92310-1/-3 and Lower Pin Part No. 600-92383-5/-7 or 601R92309-1/-3.”

• Section 5-10-10, “Life Limits (Structures),” of Bombardier Challenger 605 CL-605 Time Limits/Maintenance Checks, Part 2 Airworthiness Limitations, Revision 18, dated December 4, 2017. This service information describes, among other tasks: Task 27-42-01-108, “Discard of the Horizontal-Stabilizer Trim-Actuator (HSTA) Trunnion Support; Part No. 601R92386-1/-3;” and Task 27-42-01-112, “Discard of the Horizontal-Stabilizer Trim-Actuator (HSTA) Upper and Lower Attachment Pins; Upper Pin Part No. 600-92384-5/-7 or 601R92310-1/-3 and Lower Pin Part No. 600-92383-5/-7 or 601R92309-1/-3.”

• Section 5-10-10, “Life Limits (Structures),” of Bombardier Challenger 650 CL-650 Time Limits/Maintenance Checks, Part 2 Airworthiness Limitations, Revision 5, dated December 4, 2017. This service information describes, among other tasks: Task 27-42-01-108, “Discard of the Horizontal-Stabilizer Trim-Actuator (HSTA) Trunnion Support; Part No. 601R92386-1/-3;” and Task 27-42-01-112, “Discard of the Horizontal-Stabilizer Trim-Actuator (HSTA) Upper and Lower Attachment Pins; Upper Pin Part No. 600-92384-5/-7 or 601R92310-1/-3 and Lower Pin Part No. 600-92383-5/-7 or 601R92309-1/-3.”

The following service information describes procedures for identifying damage to HSTA attachment pins and trunnions, and repair or replacement instructions. These documents are distinct since they apply to different airplane models in different configurations.

• Bombardier Repair Engineering Order (REO) 600-27-42-002, “General Repair—HSTA Upper and Lower Pins,” dated December 15, 2016.

• Bombardier Repair Engineering Order (REO) 604-27-42-011, “General Repair—HSTA Trunnion P/N 601R92386-1/-3,” dated December 15, 2016.

• Bombardier Repair Engineering Order (REO) 604-27-42-012, “General Repair—HSTA Upper and Lower Pins,” dated December 15, 2016.

This service information is reasonably available because the interested parties have access to it through their normal course of business or by the means identified in the ADDRESSES section.

Costs of Compliance

We estimate that this AD affects 137 airplanes of U.S. registry. We estimate the following costs to comply with this AD:

Estimated Costs for Required Actions
Action | Labor cost | Parts cost | Cost per product | Cost on U.S. operators
Serialization | Up to 20 work-hours × $85 per hour = Up to $1,700 | $449 | Up to $2,149 | Up to $294,413.

We have determined that revising the maintenance or inspection program takes an average of 90 work-hours per operator, although we recognize that this number may vary from operator to operator. In the past, we have estimated that this action takes 1 work-hour per airplane. Since operators incorporate maintenance or inspection program changes for their affected fleet(s), we have determined that a per-operator estimate is more accurate than a per-airplane estimate. Therefore, we estimate the total cost per operator to be $7,650 (90 work-hours × $85 per work-hour).

We have received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-17-02 Bombardier, Inc.: Amendment 39-19356; Docket No. FAA-2018-0028; Product Identifier 2017-NM-143-AD.

(a) Effective Date

This AD is effective September 19, 2018.

(b) Affected ADs

None.

(c) Applicability

This AD applies to the Bombardier, Inc., airplanes identified in paragraphs (c)(1) through (c)(4) of this AD, certificated in any category.

(1) Model CL-600-1A11 (600) airplanes, serial numbers 1002 and 1004 through 1085 inclusive.

(2) Model CL-600-2A12 (601) airplanes, serial numbers 3001 through 3066 inclusive.

(3) Model CL-600-2B16 (601-3A and 601-3R Variants) airplanes, serial numbers 5001 through 5194 inclusive.

(4) Model CL-600-2B16 (604 Variant) airplanes, serial numbers 5301 through 5665 inclusive, 5701 through 5990 inclusive, and 6050 and subsequent.

(d) Subject

Air Transport Association (ATA) of America Code 27, Flight controls.

(e) Reason

This AD was prompted by a determination that the safe life limits of the horizontal stabilizer trim actuator (HSTA) attachment pins and trunnions were not listed in certain airworthiness limitations (AWLs) and that the HSTA attachment pins and trunnions were not serialized. We are issuing this AD to prevent failure of the HSTA attachment pins and trunnions, which could lead to a disconnect of the horizontal stabilizer and subsequent loss of the airplane.

(f) Compliance

Comply with this AD within the compliance times specified, unless already done.

(g) Maintenance or Inspection Program Revision for Model CL-600-1A11 (600), Model CL-600-2A12 (601), and Model CL-600-2B16 (601-3A and 601-3R Variants) Airplanes

For airplanes identified in paragraphs (c)(1), (c)(2), and (c)(3) of this AD: Within 60 days after the effective date of this AD, revise the maintenance or inspection program, as applicable, to incorporate the life limit AWL tasks identified in table 1 to paragraph (g) of this AD, as specified in the applicable service information identified in paragraph (g)(1), (g)(2), or (g)(3) of this AD. The initial compliance time is within 500 flight cycles of the effective date of this AD, or at the applicable time (in terms of landings) specified in the applicable AWL task identified in table 1 to paragraph (g) of this AD, whichever occurs later.

(1) For Model CL-600-1A11 (600) airplanes, Section 5-10-10, “Time Limits (Structural),” of Section 5-10-00, “Airworthiness Limitations,” of Bombardier Challenger 600 Time Limits/Maintenance Checks, Publication No. PSP 605, Revision 39, dated January 8, 2018.

(2) For Model CL-600-2A12 (601) airplanes, the applicable task specified in paragraph (g)(2)(i), (g)(2)(ii), or (g)(2)(iii) of this AD, as identified in Section 5-10-00, “Airworthiness Limitations,” of Bombardier Challenger 601 Time Limits/Maintenance Checks, Publication No. PSP 601-5, Revision 46, dated January 8, 2018.

(i) Section 5-10-10, “Time Limits (Structural)—Pre SB 601−0280.”

(ii) Section 5-10-11, “Time Limits (Structural)—Post SB 601−0280.”

(iii) Section 5-10-12, “Time Limits (Structural)—Post SB 601−0360.”

(3) For Model CL-600-2B16 (601-3A and 601-3R Variants) airplanes, the applicable task specified in paragraph (g)(3)(i), (g)(3)(ii), or (g)(3)(iii) of this AD, as identified in Section 5-10-00, “Airworthiness Limitations,” of Bombardier Challenger 601 Time Limits/Maintenance Checks, Publication No. PSP 601A-5, Revision 42, dated January 8, 2018.

(i) Section 5-10-10, “Time Limits (Structural).”

(ii) Section 5-10-11, “Time Limits (Structural).”

(iii) Section 5-10-12, “Time Limits (Structural).”

(h) Maintenance or Inspection Program Revision for Model CL-600-2B16 (604 Variant) Airplanes

For airplanes identified in paragraph (c)(4) of this AD: Within 60 days after the effective date of this AD, revise the maintenance or inspection program, as applicable, to incorporate new life limit AWL Task 27-42-01-108, “Discard of the Horizontal-Stabilizer Trim-Actuator (HSTA) Trunnion Support; Part No. 601R92386-1/-3,” and Task 27-42-01-112, “Discard of the Horizontal-Stabilizer Trim-Actuator (HSTA) Upper and Lower Attachment Pins; Upper Pin Part No. 600-92384-5/-7 or 601R92310-1/-3 and Lower Pin Part No. 600-92383-5/-7 or 601R92309-1/-3,” as specified in the applicable time limits maintenance checks (TLMC) manuals identified in paragraphs (h)(1), (h)(2), and (h)(3) of this AD. The initial compliance time is within 500 flight cycles after the effective date of this AD, or at the applicable time specified in the applicable AWL task, whichever occurs later.

(1) For airplanes having serial numbers 5301 through 5665 inclusive: Section 5-10-10, “Life Limits (Structures),” of Bombardier Challenger 604 CL-604 Time Limits/Maintenance Checks, Part 2 Airworthiness Limitations, Revision 30, dated December 4, 2017.

(2) For airplanes having serial numbers 5701 through 5990 inclusive: Section 5-10-10, “Life Limits (Structures),” of Bombardier Challenger 605 CL-605 Time Limits/Maintenance Checks, Part 2 Airworthiness Limitations, Revision 18, dated December 4, 2017.

(3) For airplanes having serial numbers 6050 and subsequent: Section 5-10-10, “Life Limits (Structures),” of Bombardier Challenger 650 CL-650 Time Limits/Maintenance Checks, Part 2 Airworthiness Limitations, Revision 5, dated December 4, 2017.

(i) Serialization of HSTA Attachment Pins and Trunnions

For airplanes identified in table 2 to paragraph (i) of this AD: Within 48 months after the effective date of this AD, or prior to performing a maintenance task required by paragraph (g) or (h) of this AD, as applicable, whichever occurs first, do a general visual inspection for damage (including linear scratches, pits, spalling, dents, or surface texture variations), and add serial numbers to the HSTA trunnions, lower attachment pin, and upper attachment pin, as applicable, in accordance with the Accomplishment Instructions of the applicable service information specified in table 2 to paragraph (i) of this AD. If any damage to the HSTA trunnions or attachment pins is found, repair the damage in accordance with the applicable service information specified in paragraph (i)(1), (i)(2), or (i)(3) of this AD; or using a method approved by the Manager, New York ACO Branch, FAA; or Transport Canada Civil Aviation (TCCA); or Bombardier, Inc.'s TCCA Design Approval Organization (DAO). If approved by the DAO, the approval must include the DAO-authorized signature. If the damaged HSTA trunnion or attachment pin cannot be repaired in accordance with the applicable service information specified in paragraph (i)(1), (i)(2), or (i)(3) of this AD: Before further flight, replace the damaged HSTA trunnion or attachment pin with a serviceable serialized HSTA trunnion or attachment pin, in accordance with the applicable service information specified in table 2 to paragraph (i) of this AD.

(1) Bombardier Repair Engineering Order (REO) 600-27-42-002, “General Repair—HSTA Upper and Lower Pins,” dated December 15, 2016.

(2) Bombardier Repair Engineering Order (REO) 604-27-42-011, “General Repair—HSTA Trunnion P/N 601R92386-1/-3,” dated December 15, 2016.

(3) Bombardier Repair Engineering Order (REO) 604-27-42-012, “General Repair—HSTA Upper and Lower Pins,” dated December 15, 2016.

BILLING CODE 4910-13-P

BILLING CODE 4910-13-C

(j) No Alternative Actions or Intervals

After the maintenance or inspection program has been revised as required by paragraph (g) or (h) of this AD, no alternative actions (e.g., inspections) or intervals may be used unless the actions or intervals are approved as an alternative method of compliance (AMOC) in accordance with the procedures specified in paragraph (m)(1) of this AD.

(k) Credit for Previous Actions

(1) This paragraph provides credit for actions required by paragraph (g) of this AD, if those actions were performed before the effective date of this AD using the service information specified in paragraph (k)(1)(i), (k)(1)(ii), or (k)(1)(iii) of this AD, as applicable.

(i) Section 5-10-10, “Time Limits (Structural),” of Section 5-10-00, “Airworthiness Limitations,” of Bombardier Challenger 600 Time Limits/Maintenance Checks, Publication No. PSP 605, Revision 38, dated March 28, 2017.

(ii) Section 5-10-10, “Time Limits (Structural)—Pre SB 601-0280,” of Section 5-10-00, “Airworthiness Limitations,” of Bombardier Challenger 601 Time Limits/Maintenance Checks, Publication No. PSP 601-5, Revision 45, dated March 28, 2017.

(iii) Section 5-10-11, “Time Limits (Structural)—Post SB 601-0280,” of Section 5-10-00, “Airworthiness Limitations,” of Bombardier Challenger 601 Time Limits/Maintenance Checks, Publication No. PSP 601-5, Revision 45, dated March 28, 2017.

(iv) Section 5-10-12, “Time Limits (Structural)—Post SB 601-0360,” of Section 5-10-00, “Airworthiness Limitations,” of Bombardier Challenger 601 Time Limits/Maintenance Checks, Publication No. PSP 601-5, Revision 45, dated March 28, 2017.

(v) Section 5-10-10, “Time Limits (Structural),” of Section 5-10-00, “Airworthiness Limitations,” of Bombardier Challenger 601 Time Limits/Maintenance Checks, Publication No. PSP 601A-5, Revision 41, dated March 28, 2017.

(vi) Section 5-10-11, “Time Limits (Structural),” of Section 5-10-00, “Airworthiness Limitations,” of Bombardier Challenger 601 Time Limits/Maintenance Checks, Publication No. PSP 601A-5, Revision 41, dated March 28, 2017.

(vii) Section 5-10-12, “Time Limits (Structural),” of Section 5-10-00, “Airworthiness Limitations,” of Bombardier Challenger 601 Time Limits/Maintenance Checks, Publication No. PSP 601A-5, Revision 41, dated March 28, 2017.

(2) This paragraph provides credit for actions required by paragraph (h) of this AD, if those actions were performed before the effective date of this AD using the service information specified in paragraph (k)(2)(i), (k)(2)(ii), or (k)(2)(iii) of this AD, as applicable.

(i) Section 5-10-10, “Life Limits (Structures),” of Bombardier Challenger 604 CL-604 Time Limits/Maintenance Checks, Part 2 Airworthiness Limitations, Revision 29, dated June 16, 2017.

(ii) Section 5-10-10, “Life Limits (Structures),” of Bombardier Challenger 605 CL-605 Time Limits/Maintenance Checks, Part 2 Airworthiness Limitations, Revision 17, dated June 16, 2017.

(iii) Section 5-10-10, “Life Limits (Structures),” of Bombardier Challenger 650 CL-650 Time Limits/Maintenance Checks, Part 2 Airworthiness Limitations, Revision 4, dated June 16, 2017.

(3) This paragraph provides credit for actions required by paragraph (i) of this AD, if those actions were performed before the effective date of this AD using the service information specified in paragraph (k)(3)(i), (k)(3)(ii), (k)(3)(iii), or (k)(3)(iv) of this AD, as applicable.

(i) Bombardier Service Bulletin 600-0760, dated February 25, 2013.

(ii) Bombardier Service Bulletin 601-0626, dated February 25, 2013.

(iii) Bombardier Service Bulletin 604-27-034, dated February 25, 2013.

(iv) Bombardier Service Bulletin 605-27-005, dated February 25, 2013.

(l) Parts Installation Limitations

(1) As of the effective date of this AD, no person may install, on any airplane, an HSTA attachment pin, unless the pin has a serial number.

(2) As of the effective date of this AD, no person may install, on any Bombardier, Inc., Model CL-600-2B16 (604 Variant) airplane with serial number 5301 and subsequent, an HSTA trunnion, unless the HSTA trunnion has a serial number.

(m) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or TCCA; or Bombardier, Inc.'s TCCA DAO. If approved by the DAO, the approval must include the DAO-authorized signature.

(n) Related Information

(1) Refer to Mandatory Continuing Airworthiness Information (MCAI) Canadian AD CF-2017-24, dated July 12, 2017, for related information. This MCAI may be found in the AD docket on the internet at http://www.regulations.gov by searching for and locating Docket No. FAA-2018-0028.

(2) For more information about this AD, contact Aziz Ahmed, Aerospace Engineer, Airframe and Mechanical Systems Section, FAA, New York ACO Branch, 1600 Stewart Avenue, Suite 410, Westbury, NY 11590; telephone 516-228-7239; fax 516-794-5531; email 9-avs-nyaco-cos@faa.gov.

(3) Service information identified in this AD that is not incorporated by reference is available at the addresses specified in paragraphs (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Repair Engineering Order (REO) 600-27-42-002, “General Repair—HSTA Upper and Lower Pins,” dated December 15, 2016.

(ii) Bombardier Repair Engineering Order (REO) 604-27-42-011, “General Repair—HSTA Trunnion P/N 601R92386-1/-3,” dated December 15, 2016.

(iii) Bombardier Repair Engineering Order (REO) 604-27-42-012, “General Repair—HSTA Upper and Lower Pins,” dated December 15, 2016.

(iv) Bombardier Service Bulletin 600-0760, Revision 01, dated April 21, 2017.

(v) Bombardier Service Bulletin 601-0626, Revision 01, dated April 21, 2017.

(vi) Bombardier Service Bulletin 604-27-034, Revision 01, dated April 21, 2017.

(vii) Bombardier Service Bulletin 605-27-005, Revision 01, dated April 21, 2017.

(viii) Section 5-10-10, “Time Limits (Structural),” of Section 5-10-00, “Airworthiness Limitations,” of Bombardier Challenger 600 Time Limits/Maintenance Checks, Publication No. PSP 605, Revision 39, dated January 8, 2018.

(ix) Section 5-10-00, “Airworthiness Limitations,” of Bombardier Challenger 601 Time Limits/Maintenance Checks, Publication No. PSP 601-5, Revision 46, dated January 8, 2018.

(A) Section 5-10-10, “Time Limits (Structural)—Pre SB 601-0280.”

(B) Section 5-10-11, “Time Limits (Structural)—Post SB 601-0280.”

(C) Section 5-10-12, “Time Limits (Structural)—Post SB 601-0360.”

(x) Section 5-10-00, “Airworthiness Limitations,” of Bombardier Challenger 601 Time Limits/Maintenance Checks, Publication No. PSP 601A-5, Revision 42, dated January 8, 2018.

(A) Section 5-10-10, “Time Limits (Structural).”

(B) Section 5-10-11, “Time Limits (Structural).”

(C) Section 5-10-12, “Time Limits (Structural).”

(xi) Section 5-10-10, “Life Limits (Structures),” of Bombardier Challenger 604 CL-604 Time Limits/Maintenance Checks, Part 2 Airworthiness Limitations, Revision 30, dated December 4, 2017.

(xii) Section 5-10-10, “Life Limits (Structures),” of Bombardier Challenger 605 CL-605 Time Limits/Maintenance Checks, Part 2 Airworthiness Limitations, Revision 18, dated December 4, 2017.

(xiii) Section 5-10-10, “Life Limits (Structures),” of Bombardier Challenger 650 CL-650 Time Limits/Maintenance Checks, Part 2 Airworthiness Limitations, Revision 5, dated December 4, 2017.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on August 5, 2018.
Michael Kaszycki,
Acting Director, System Oversight Division, Aircraft Certification Service.

[FR Doc. 2018-17483 Filed 8-14-18; 8:45 am]

BILLING CODE 4910-13-P